DEPARTMENT OF STATE

[Public Notice 6981]

Notice of Extension of Public Comment Period for the Proposed Keystone XL Pipeline Project Draft Environmental Impact Statement

AGENCY: Department of State.

ACTION: Notice—Extension of public comment period.

SUMMARY: In response to requests from several organizations, the Department of State (DOS) is extending the public comment period for the Keystone XL Pipeline Project Draft Environmental Impact Statement (DEIS). The Department of State had originally set the end of the comment period at May 31, 2010. The Department has decided, in response to the requests noted above, to extend the comment period until Wednesday, June 16, 2010. The original notice of availability of the DEIS was published by EPA in the Federal Register on April 16, 2010 [75 FR 19969]. A second notice that listed the public comment meetings and additional information on the DEIS was published in the Federal Register on April 20, 2010 [75 FR 20653].

DATES: Comments on the DEIS should be received or postmarked no later than Wednesday, June 16, 2010.

ADDRESSES: You may submit written comments by the following methods:

• Electronically, using the online comment form, available on the Keystone XL Project Web site: http://www.keystonepipeline-xl.state.gov. This is the preferred method for commenting.

• By mail addressed to: Elizabeth Orlando, Keystone XL Project Manager, U.S. Department of State, OES/ENV Room 2657, Washington, DC 20520. Please note that DOS mail can be delayed due to security screening.

• Fax to: (202) 647-1052, attention Elizabeth Orlando.

FOR FURTHER INFORMATION CONTACT: For information on the proposed Project or the DEIS contact Elizabeth Orlando, OES/ENV Room 2657, U.S. Department of State, Washington, DC 20520, or by telephone (202) 647-4284, or by fax at (202) 647-1052. You may also visit the Project Web site: http://www.keystonepipeline-xl.state.gov.

Dated: April 23, 2010.
Willem H. Brakel,
Director, Office of Environmental Policy, Bureau of Oceans and International Environmental and Scientific Affairs, U.S. Department of State.

[FR Doc. 2010-10165 Filed 4-29-10; 8:45 am]

BILLING CODE 4710-07-P